DEPARTMENT OF DEFENSE

Office of the Secretary

Notice of Adoption of Electric Vehicle Charging Stations Categorical Exclusion Under the National Environmental Policy Act

AGENCY: Defense Threat Reduction Agency (DTRA), Department of Defense (DoD).

ACTION: Notice of adoption of categorical exclusion.

SUMMARY: DTRA is adopting the Department of Energy's (DOE's) Electric Vehicle (EV) Charging Stations Categorical Exclusion (CE) under the National Environmental Policy Act (NEPA) to use in DTRA programs and funding opportunities administered by DTRA. This notice describes the categories of proposed actions for which DTRA intends to use DOE's CEs and describes the consultation between the agencies.

FOR FURTHER INFORMATION CONTACT: Ms. Sherry Davis, 703-767-7122, sherry.j.davis3.civ@mail.mil.

SUPPLEMENTARY INFORMATION:

I. Background

National Environmental Policy Act and Categorical Exclusions

The NEPA, as amended at 42 U.S.C. 4321-4347, requires all Federal agencies to assess the environmental impact of their actions. Congress enacted NEPA in order to encourage productive and enjoyable harmony between humans and the environment, recognizing the profound impact of human activity and the critical importance of restoring and maintaining environmental quality to the overall welfare of humankind (42 U.S.C. 4321, 4331). NEPA's twin aims are to ensure agencies consider the environmental effects of their proposed actions in their decision-making processes and inform and involve the public in that process (42 U.S.C. 4331). NEPA created the Council on Environmental Quality (CEQ), which promulgated NEPA implementing regulations, 40 CFR parts 1500 through 1508 (CEQ regulations).

To comply with NEPA, agencies determine the appropriate level of review—an Environmental Impact Statement (EIS), Environmental Assessment (EA), or CE (42 U.S.C. 4336). If a proposed action is likely to have significant environmental effects, the agency must prepare an EIS and document its decision in a record of decision (42 U.S.C. 4336). If the proposed action is not likely to have significant environmental effects or the effects are unknown, the agency may instead prepare an EA, which involves a more concise analysis and process than an EIS (42 U.S.C. 4336). Following the EA, the agency may conclude the process with a finding of no significant impact if the analysis shows that the action will have no significant effects. If the analysis in the EA finds that the action is likely to have significant effects, however, then an EIS is required.

Under NEPA and the CEQ regulations, a Federal agency also can establish CEs—categories of actions that the agency has determined normally do not significantly affect the quality of the human environment—in their agency NEPA procedures (42 U.S.C. 4336(e)(1); 40 CFR 1501.4, 1507.3(e)(2)(ii), 1508.1(d)). If an agency determines that a CE covers a proposed action, it then evaluates the proposed action for extraordinary circumstances in which a normally excluded action may have a significant effect (40 CFR 1501.4(b)). If no extraordinary circumstances are present or if further analysis determines that the extraordinary circumstances do not involve the potential for significant environmental impacts, the agency may apply the CE to the proposed action without preparing an EA or EIS (42 U.S.C. 4336(a)(2), 40 CFR 1501.4). If the extraordinary circumstances have the potential to result in significant effects, the agency is required to prepare an EA or EIS.

Section 109 of NEPA, enacted as part of the Fiscal Responsibility Act of 2023, allows a Federal agency to “adopt” or use another agency's CEs for a category of proposed agency actions (42 U.S.C. 4336(c)). To use another agency's CEs under section 109, an agency must identify the relevant CEs listed in another agency's (“establishing agency”) NEPA procedures that cover its category of proposed actions or related actions; consult with the establishing agency to ensure that the proposed adoption of the CE to a category of actions is appropriate; identify to the public the CE that the agency plans to use for its proposed actions; and document adoption of the CE.

This notice documents DTRA's adoption of DOE's Electric Vehicle Charging Stations CE under section 109 of NEPA to use in DTRA programs and funding opportunities administered by DTRA Operating Administrations.

II. Identification of the Categorical Exclusion

DOE's EV Charging Stations CE

DOE's EV charging stations CE is codified in DOE's NEPA procedures at 10 CFR part 1021, subpart D, appendix B, B5.23. DOE provides clarification on the meaning of the phrase, “previously disturbed or developed” used in the CE B5.23 at 10 CFR 1021.410(g)(1).

The DOE CE also includes additional conditions referred to as integral elements at 10 CFR part 1021, subpart D, appendix B that should be considered in order to apply the CE.

Proposed DTRA Category of Actions

DTRA intends to apply this CE to any DTRA EV charging station project undertaken directly by DTRA, to any EV charger action requiring an approval by DTRA, or to any project that is financed in whole or in part through Federal funds made available by DTRA (including the National Electric Vehicle Infrastructure Formula Program or the Charging and Fueling Infrastructure Discretionary Grant Program).

The CE allows for the installation, modification, operation, and removal of EV charging stations. DTRA will consider each proposal for EV charging stations to ensure that the proposal is within the scope of the CE. DTRA intends to apply this CE in a manner consistent with DOE's application—to the same types of proposals (which have included a wide variety of locations on and off Federal property, differences in local conditions, various numbers of EV charging stations per proposal, and different types of equipment and technologies including Level 1, Level 2, and DC Fast Charging stations).

III. Consideration of Extraordinary Circumstances

When applying this CE, DTRA will evaluate the proposals to ensure evaluation of integral elements listed in the DOE's NEPA procedures at 10 CFR part 1021, subpart D, appendix B. In addition, when considering extraordinary circumstances, DTRA will consider whether the proposed action has the potential to result in significant effects as described at 10 CFR 1021.410(b)(2).

IV. Consultation With DOE and Determination of Appropriateness

DTRA and DOE consulted on the appropriateness of DTRA's adoption of the CE on September 26, 2023. DTRA and DOE's consultation included a review of DOE's experience developing and applying the CE, as well as the types of actions for which DTRA plans to utilize the CE. These DTRA actions are very similar to the type of projects that DOE funds and therefore the impacts of DTRA projects will be very similar to the impacts of DOE projects, which are not significant, absent the existence of extraordinary circumstances that could involve potentially significant impacts. Therefore, DTRA has determined that its proposed use of the CE as described in this notice would be appropriate. Additional documentation of DOE and DTRA's consultation is available upon request.

V. Notice to the Public and Documentation of Adoption

This notice serves to identify to the public and document DTRA's adoption of DOE's CE for EV charging stations. The notice identifies the types of actions to which DTRA will apply the CE, as well as the considerations that DTRA will use in determining whether an action is within the scope of the CE.

Dated: July 2, 2024.
Aaron T. Siegel,
Alternate OSD Federal Register Liaison Officer, Department of Defense.

[FR Doc. 2024-14911 Filed 7-5-24; 8:45 am]

BILLING CODE 6001-FR-P